DEPARTMENT OF ENERGY

Federal Energy Regulatory Commission

[Project No. 3102-025]

Notice Approving Use of the Traditional Licensing Process; Jason and Carol Victoria Presley

a. Type of Filing: Notice Approving the Use of the Traditional Licensing Process

b. Project No.: 3102-025.

c. Date Filed: November 1, 2017.

d. Submitted By: Jason and Carol Victoria Presley.

e. Name of Project: High Shoals Project.

f. Location: On the Apalachee River in Walton, Morgan, and Oconee Counties, Georgia. The project does not occupy federal lands.

g. Filed Pursuant to: Federal Power Act, 16 U.S.C. 791(a)-825(r).

h. Applicant Contact: Mr. Jason Presley and Ms. Carol Victoria Presley, 110 Frazier Hill Road, Bishop, GA. 30621, (706) 769-8293, email: jason@presley.us, victoria@presley.us.

i. FERC Contact: Michael Spencer at (202) 502-6093 or email at michael.spencer@ferc.gov.

j. In a letter dated March 1, 2018, the Director of the Division of Hydropower Licensing approved Jason and Carol Victoria Presley's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Georgia State Historic Preservation Officer, as required by section 106, National Historic Preservation Act, and the implementing regulations of the Advisory Council on Historic Preservation at 36 CFR 800.2.

l. Jason and Carol Victoria Presley filed a Pre-Application Document (PAD; including a proposed process plan and schedule) with the Commission, pursuant to 18 CFR 5.6 of the Commission's regulations.

m. A copy of the PAD is available for review at the Commission in the Public Reference Room or may be viewed on the Commission's website (http://www.ferc.gov), using the eLibrary link. Enter the docket number, excluding the last three digits in the docket number field to access the document. For assistance, contact FERC Online Support at FERCONlineSupport@ferc.gov, (866) 208-3676 (toll free), or (202) 502-8659 (TTY). A copy is also available for inspection and reproduction at the address in paragraph h.

n. The licensee states its unequivocal intent to submit an application for a new license for Project No. 3102. Pursuant to 18 CFR 16.8, 16.9, and 16.10 each application for a new license and any competing license applications must be filed with the Commission at least 24 months prior to the expiration of the existing license. All applications for license for this project must be filed by August 30, 2019.

o. Register online at http://www.ferc.gov/docs-filing/esubscription.asp to be notified via email of new filing and issuances related to this or other pending projects. For assistance, contact FERC Online Support.

Dated: March 16, 2018.
Nathaniel J. Davis, Sr.,
Deputy Secretary.

[FR Doc. 2018-05950 Filed 3-22-18; 8:45 am]

BILLING CODE 6717-01-P